DEPARTMENT OF HOMELAND SECURITY

Federal Emergency Management Agency

44 CFR Part 65

[Docket No. FEMA-D-7541]

Changes in Flood Elevation Determinations

AGENCY: Federal Emergency Management Agency (FEMA), Emergency Preparedness and Response Directorate, Department of Homeland Security.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified base flood elevations for each community are available for inspection at the office of the Chief Executive Officer of each community. The respective addresses are listed in the following table.

FOR FURTHER INFORMATION CONTACT: Mary Jean Pajak, P.E., FEMA, 500 C Street SW., Washington, DC 20472, (202) 646-2831.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Executive date of modification | Community number
Alabama: Jefferson | City of Birmingham | May 13, 2003; May 20, 2003; The Birmingham News | The Honorable Bernard A. Kincaid, Mayor of the City of Birmingham, Birmingham City Hall, 710 North 20th Street, Birmingham, Alabama 35203 | May 6, 2003 | 010116 E
Connecticut: Fairfield | Town of Greenwich | May 6, 2003; May 13, 2003; Greenwich Time | Mr. Richard Bergstresser, Town of Greenwich First Selectman, Town Hall, 101 Field Point Road, Greenwich, Connecticut 06830 | April 28, 2003 | 090008 C
Florida: Hillsborough | City of Tampa | May 20, 2003; May 27, 2003; St. Petersburg Times | The Honorable Dick A. Greco, Mayor of the City of Tampa, 306 East Jackson Street, First Floor, Tampa, Florida 33602 | May 12, 2003 | 120114 C
Georgia: Bartow | City of Adairsville | May 12, 2003; May 19, 2003; Daily Tribune News | The Honorable Doyal Penson, Mayor of the City of Adairsville, 116 Public Square, Adairsville, Georgia 30103 | November 5, 2003 | 130235 F
Georgia: Chatham | City of Savannah | May 22, 2003; May 29, 2003; Savannah Morning News | The Honorable Floyd Adams, Jr., Mayor of the City of Savannah, P.O. Box 1027, Savannah, Georgia 31402 | May 15, 2003 | 135163 C
Pennsylvania: Lebanon | Township of North Cornwall | May 26, 2003; June 2, 2003; Lebanon Daily News | Ms. Robin Getz, Lebanon County Planning and Zoning Department, 400 South Eight Street, Lebanon, Pennsylvania 17042 | September 1, 2003 | 420576 C
Pennsylvania: Wyoming | Township of Tunkhannock | April 30, 2003; May 7, 2003; The New Age Examiner | Mr. Randy L. White, Chairman of the Township of Tunkhannock Board of Commissioners, Township Building, 438 State Route 92 South, Tunkhannock, Pennsylvania 18657 | April 23, 2003 | 422206
Virginia: Rockbridge | Unincorporated Areas | May 21, 2003; News Gazette | Mr. Donald G. Austin, Rockbridge County Administrator, 150 South Main Street, Lexington, Virginia 24450 | June 20, 2003 | 510205 C

(Catalog of Federal Domestic Assistance No. 83.100, “Flood Insurance”)
Dated: June 18, 2003.
Anthony S. Lowe,
Mitigation Division Director, Emergency Preparedness and Response Directorate.

[FR Doc. 03-16289 Filed 6-26-03; 8:45 am]

BILLING CODE 6718-04-P